DEPARTMENT OF COMMERCE

National Oceanic and Atmospheric Administration

50 CFR Part 622

[Docket No. 171017999-8262-01]

RIN 0648-XG871

Reef Fish Fishery of the Gulf of Mexico; 2019 Recreational Accountability Measure and Closure for Gulf of Mexico Greater Amberjack

AGENCY: National Marine Fisheries Service (NMFS), National Oceanic and Atmospheric Administration (NOAA), Commerce.

ACTION: Temporary rule; closure.

SUMMARY: NMFS implements an accountability measure (AM) for the greater amberjack recreational sector in the exclusive economic zone (EEZ) of the Gulf of Mexico (Gulf) for the 2018-2019 fishing year through this temporary rule. NMFS has determined that for the 2018-2019 fishing year, the recreational annual catch target (ACT) for Gulf greater amberjack has been met; therefore, the greater amberjack recreational season in the Gulf EEZ will not re-open on May 1, 2019, and will remain closed for the remainder of the current fishing year. This closure is necessary to protect the Gulf greater amberjack resource.

DATES: This rule is effective from 12:01 a.m., local time, May 1, 2019, until 12:01 a.m., local time, on August 1, 2019.

FOR FURTHER INFORMATION CONTACT: Lauren Waters, NMFS Southeast Regional Office, telephone: 727-824-5305, email: lauren.waters@noaa.gov.

SUPPLEMENTARY INFORMATION: NMFS manages the Gulf reef fish fishery, which includes greater amberjack, under the Fishery Management Plan for the Reef Fish Resources of the Gulf (FMP). The FMP was prepared by the Gulf of Mexico Fishery Management Council (Council) and is implemented by NMFS under the authority of the Magnuson-Stevens Fishery Conservation and Management Act (Magnuson-Stevens Act) through regulations at 50 CFR part 622. All greater amberjack weights discussed in this temporary rule are in round weight.

The recreational fishing year for Gulf greater amberjack is August 1 through July 31 each year. The 2018-2019 recreational ACL for Gulf greater amberjack specified in 50 CFR 622.41(a)(2)(iii) is 1,086,970 lb (493,041 kg), and the recreational ACT specified in 50 CFR 622.39(a)(2)(ii)(B) is 902,185 lb (409,224 kg).

Regulations at 50 CFR 622.34(c) designate a seasonal closure for Gulf greater amberjack from November 1 to April 30 each fishing year before allowing recreational harvest during the month of May. However, under 50 CFR 622.41(a)(2)(i), NMFS is required to close the recreational sector for greater amberjack when the recreational ACT is reached or is projected to be reached by filing a notification to that effect with the Office of the Federal Register. NMFS has determined that for the 2018-2019 fishing year, the recreational ACT has been met. Accordingly, the recreational sector for Gulf greater amberjack will not re-open on May 1, 2019, and the recreational season will remain closed for the rest of the 2018-2019 fishing year, which ends on July 31, 2019.

During the recreational closure, the bag and possession limits for greater amberjack in or from the Gulf EEZ are zero. The prohibition on possession in the Gulf on board a vessel for which a valid Federal charter vessel/headboat permit for Gulf reef fish has been issued applies regardless of whether greater amberjack were harvested in state or Federal waters.

The recreational sector for greater amberjack will reopen on August 1, 2019, the beginning of the 2019-2020 recreational fishing year.

Classification

The Regional Administrator for the NMFS Southeast Region has determined this temporary rule is necessary for the conservation and management of Gulf greater amberjack and is consistent with the Magnuson-Stevens Act and other applicable laws.

This action is taken under 50 CFR 622.41(a)(2)(i) and is exempt from review under Executive Order 12866.

These measures are exempt from the procedures of the Regulatory Flexibility Act because the temporary rule is issued without opportunity for prior notice and comment.

This action responds to the best scientific information available. The Assistant Administrator for NOAA Fisheries (AA) finds that the need to immediately implement this action to close the recreational sector for greater amberjack constitutes good cause to waive the requirements to provide prior notice and opportunity for public comment on this temporary rule pursuant to the authority set forth in 5 U.S.C. 553(b)(B), because such procedures are unnecessary and contrary to the public interest. Such procedures are unnecessary because the rule establishing the closure provisions was subject to notice and comment, and all that remains is to notify the public of the closure. Such procedures are contrary to the public interest because of the need to immediately implement this action to protect greater amberjack. Prior notice and opportunity for public comment would require time and would potentially allow the recreational sector to exceed the recreational ACL.

Authority: 16 U.S.C. 1801 et seq.

Dated: March 19, 2019.
Jennifer M. Wallace,
Acting Director, Office of Sustainable Fisheries, National Marine Fisheries Service.

[FR Doc. 2019-05517 Filed 3-20-19; 8:45 am]

BILLING CODE 3510-22-P